ENVIRONMENTAL PROTECTION AGENCY

[FRL-7237-7]

Agency Information Collection Activities: Submission for OMB Review; Comment Request; Health Effects of Microbial Pathogens in Recreational Waters

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Health Effects of Microbial Pathogens in Recreational Waters, EPA ICR No. 2081.01. The ICR describes the nature of the information collection and its expected burden and cost; where appropriate, it includes the actual data collection instruments.

DATES: Comments must be submitted on or before July 26, 2002.

ADDRESSES: Send comments, referencing EPA ICR No. 2081.01, to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by E-mail at auby.susan@epa.gov, or download off the Internet at http://www.epa.gov/icr and refer to EPA ICR No. 2081.01. For technical questions about the ICR contact Elizabeth Sams in EPA's Office of Research and Development at (919) 843-3161.

SUPPLEMENTARY INFORMATION:

Title: Health Effects of Microbial Pathogens in Recreational Waters, EPA ICR Number 2081.01. This is a new collection.

Abstract: This study will be conducted, and the information collected, by the Epidemiology and Biomarkers Branch, Human Studies Division, National Health and Environmental Effects Research Laboratory, Office of Research and Development, U.S. Environmental Protection Agency (EPA). Participation of adults and children in this collection of information is strictly voluntary.

This information is being collected as part of a research program consistent with the section 3(a) (v) (1) of the Beaches Environmental Assessment and Coastal Health Act of 2000 and the strategic plan for EPA's Office of Research and Development (ORD) and the Office of Water entitled “Action Plan for Beaches and Recreational Water.” The Beaches Act and ORD's strategic plan have identified research on effects of microbial pathogens in recreational waters as a high-priority research area with particular emphasis on developing new water quality indicator guidelines for recreational waters. EPA has broad legislative authority to establish water quality criteria and to conduct research to support these criteria. This data collection is for a series of epidemiological studies to evaluate exposure to and effects of microbial pathogens in marine and fresh (Great Lakes) recreational waters as part of EPA's research program on exposure and health effects of microbial pathogens in recreational waters. The results of these health effects studies will be used to document human health effects associated with recreational water use and correlate these health effects with ongoing EPA studies to identify a new generation of indicators for detection of human pathogens in recreational water and appropriate, effective, and expeditious testing methods for these indicators (addressed separately under section 3(a) (v) (2 & 3) of the Beaches Environmental Assessment and Coastal Health Act of 2000). The results will be used to develop mathematical relationships that will be used for the generation of new national water quality guidelines and appropriate monitoring guidelines.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on February 15, 2002, (67 FR 7150); three comments were received.

Burden Statement: The annual public reporting and recordkeeping burden for this collection of information is estimated to average about a half hour per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Interview & Telephone Follow-ups: Based on consultation with the individuals listed in section 3(c) of the ICR, and our experience with similar types of information collection, we estimate that each family will spend an average of 30 minutes completing the beach interview and will require no record keeping. This includes the time for reviewing the information pamphlet and answering the questions. We estimate that each family will spend an average of 30 minutes completing the first home telephone interview and 20 minutes completing the second home telephone interview. The telephone interviews will require no record keeping.

Respondents/Affected Entities: Entities potentially affected by this action are families frequenting fresh and marine water beaches in the continental United States.

Estimated Number of Respondents: 4500.

Frequency of Response: Once.

Estimated Total Annual Hour Burden: 5,000

Estimated Total Annualized Capital, O&M Cost Burden: $0.

Send comments on the Agency's need for this information, the accuracy of the provided burden estimates, and any suggested methods for minimizing respondent burden, including through the use of automated collection techniques to the following addresses. Please refer to EPA ICR No. 2081.01 in any correspondence.

Dated: June 10, 2002.
Oscar Morales,
Director, Collection Strategies Division.

[FR Doc. 02-16135 Filed 6-25-02; 8:45 am]

BILLING CODE 6560-50-U